DEPARTMENT OF VETERANS AFFAIRS

Enhanced-Use Lease Development of Property at the Department of Veterans Affairs Medical Center, Leavenworth, KS

AGENCY: Department of Veterans Affairs.

ACTION: Notice of intent to enter into an enhanced-use lease.

SUMMARY: The Secretary of the Department of Veterans Affairs (VA) intends to enter into an enhanced-use lease of approximately 50 acres at the Dwight D. Eisenhower VA Medical Center in Leavenworth, Kansas. The selected lessee will finance, redevelop, manage, maintain and operate a mixed-use development that would provide services and accommodations relating to affordable senior housing, long-term care, long-term housing for veterans, transitional housing with supportive services for veterans, and educational and community support facilities on the site, at no cost to VA.

FOR FURTHER INFORMATION CONTACT: Malinda D. Pugh, Office of Asset Enterprise Management (004B), Department of Veterans Affairs, 810 Vermont Avenue, NW., Washington, DC 20420, (202) 273-8192.

SUPPLEMENTARY INFORMATION: 38 U.S.C. 8161 et seq. specifically provides that the Secretary may enter into an enhanced-use lease if he determines that at least part of the use of the property under the lease will be to provide appropriate space for an activity contributing to the mission of the Department; the lease will not be inconsistent with and will not adversely affect the mission of the Department; and the lease will enhance the property or result in improved services to veterans. This project meets these requirements.

Approved: September 22, 2004.
Anthony J. Principi,
Secretary of Veterans Affairs.

[FR Doc. 04-21918 Filed 9-29-04; 8:45 am]

BILLING CODE 8320-01-P